DEPARTMENT OF ENERGY

Agency Request for Comments on Draft Solicitation

AGENCY: U.S. Department of Energy.

ACTION: Notice of availability of and request for comments regarding Draft Solicitation for Advanced Fossil Energy Projects.

SUMMARY: The Loan Programs Office (LPO) of the Department of Energy (DOE) announces a draft of a potential future solicitation announcement for Federal Loan Guarantees for Advanced Fossil Energy Projects. LPO invites comments regarding the draft of the potential future solicitation announcement.

DATES: Comments regarding the draft of the potential future solicitation announcement must be received on or before September 9, 2013. If you anticipate difficulty in submitting comments within that period, contact the person listed below as soon as possible.

ADDRESSES: Written comments may be sent to David G. Frantz, Deputy Executive Director, Loan Programs Office, U.S. Department of Energy, 1000 Independence Avenue SW., Washington, DC 20585. The draft solicitation is available on LPO's Web site at http://www.lgprogram.energy.gov/

FOR FURTHER INFORMATION CONTACT: David G. Frantz, DraftLPOFossilSoliciationComments@hq.doe.gov.

SUPPLEMENTARY INFORMATION: DOE is considering a potential future solicitation announcement for Federal Loan Guarantees for Advanced Fossil Energy Projects. Should DOE choose to proceed which such a solicitation, applicants would be invited to apply for loan guarantees from DOE to finance projects and facilities located in the United States that employ innovative and advanced fossil energy technologies (“Advanced Fossil Energy Projects”). DOE may make up to Eight Billion Dollars ($8,000,000,000) in loan guarantee authority available under the proposed solicitation for Advanced Fossil Energy Projects.

DOE is considering including in any potential future solicitation projects or facilities that (1) avoid, reduce, or sequester air pollutants or anthropogenic emission of greenhouse gases, (2) employ New or Significantly Improved Technology as compared to Commercial Technology in service in the United States at the time the Term Sheet is issued (as each capitalized term is defined in the regulations implementing Title XVII, which are set forth in Part 609 under Chapter II of Title 10 of the Code of Federal Regulations, and (3) use advanced fossil energy technology (within the meaning of that term in Section 1703(b)(2) of Title XVII) and are described in one or more of the following technology areas: (a) Advanced resource development, (b) carbon capture, (c) low-carbon power systems, or (d) efficiency improvements. DOE is assuming that the scope of any potential solicitation would be broad. All fossil fuels, including, without limitation, coal, natural gas, oil, shale gas, oil gas, coal bed methane, methane hydrates, and others, may be included in the potential future solicitation. DOE is considering including both electrical and non-electrical fossil energy use.

While comments are sought on all aspects of the draft solicitation, DOE is particularly interested in comments regarding the weighting percentage allocated to each category for evaluations (Programmatic, Technical, Policy, and Financial), and the categories themselves.

LPO is announcing that a draft of a potential future solicitation announcement for Federal Loan Guarantees for Advanced Fossil Energy Projects. LPO invites comments regarding the draft of the potential future solicitation announcement.

Statutory Authority: Title XVII of the Energy Policy Act of 2005 (42 U.S.C. 16511 et seq.).

Issued in Washington, DC, on July 2, 2013.
Valri Lightner,
Acting Director, Technical and Project Management, Loan Programs Office.

[FR Doc. 2013-16422 Filed 7-8-13; 8:45 am]

BILLING CODE 6450-01-P